FEDERAL COMMUNICATIONS COMMISSION

Notice of Public Information Collection(s) Being Reviewed by the Federal Communications Commission

March 25, 2005.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 4, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0734.

Title: Accounting Safeguards, CC Docket No. 96-150, 47 U.S.C. sections 260 and sections 271-276, Sections 54.209, 53.211, and 53.213.

Form No: N/A.

Type of Review: Extension of a currently approved collection.

Respondents: Business or other for-profit.

Number of Respondents: 50.

Estimated Time Per Response: 24-19,200 hours.

Frequency of Response: On occasion and biennial reporting requirements, third party disclosure requirement and recordkeeping requirement.

Total Annual Burden: 131,523 hours.

Total Annual Cost: $2,000,000.

Privacy Act Impact Assessment: N/A.

Needs and Uses: With this submission to the Office of Management and Budget (OMB), the Commission is extending this collection (no change in requirements) for this information collection in order to obtain the full three-year clearance from OMB. The Commission has adjusted the burden hours and burden costs to more accurately reflect the Commission's actual experience in conducting section 272 audits.

Under section 272 and the Commission's implementing rules, a Bell Operating Company (BOC) and its section 272 affiliate may not jointly own transmission and switching equipment, although this restriction is subject to sunset. The separate section 272 affiliate must maintain separate books of account and have separate officers and directors. The separate section 272 affiliate may not obtain credit under arrangements that would permit the creditor to look to the assets of the BOC. The section 272 affiliate must conduct all transactions with the BOC on an arm's length basis, pursuant to the Commission's affiliate transaction rules, with the terms and conditions of such transactions reduced to writing and available for public inspection on the Internet. This collection has recordkeeping and reporting requirements. Section 272(d) states that companies required to maintain a separate affiliate “shall obtain and pay for a Federal/State audit every two years conducted by an independent auditor to determine whether such company has complied with this section and the regulations promulgated under this section, and particularly whether such company has complied with the separate accounting requirements under [section 272(b)].” The information collected in this submission to OMB is intended to prevent discrimination, cost misallocation and other anti-competitive conduct by the BOCs.

Federal Communications Commission.
Marlene H. Dortch,
Secretary.

[FR Doc. 05-6560 Filed 4-1-05; 8:45 am]

BILLING CODE 6712-01-P